DEPARTMENT OF COMMERCE

International Trade Administration

[A-823-815]

Termination of the Suspension Agreement on Certain Oil Country Tubular Goods From Ukraine, Rescission of Administrative Review, and Issuance of Antidumping Duty Order

AGENCY: Enforcement and Compliance, International Trade Administration, Department of Commerce.

SUMMARY: On July 10, 2019, the Agreement Suspending the Antidumping Duty Investigation on Certain Oil Country Tubular Goods from Ukraine (the Agreement) terminates. Accordingly, the Department of Commerce (Commerce) is issuing an antidumping duty (AD) order on certain oil country tubular goods (OCTG) from Ukraine. Commerce is directing the suspension of liquidation and collection of cash deposits to begin on July 10, 2019. Additionally, Commerce is rescinding the administrative review of the Agreement.

DATES: Applicable July 10, 2019.

FOR FURTHER INFORMATION CONTACT: Sally C. Gannon or David Cordell, Enforcement and Compliance, International Trade Administration, U.S. Department of Commerce, 1401 Constitution Avenue NW, Washington, DC 20230; telephone: (202) 482-0162 or (202) 482-0408, respectively.

SUPPLEMENTARY INFORMATION:

Background

On July 22, 2013, Commerce initiated an antidumping duty investigation under section 732 of the Tariff Act of 1930, as amended (the Act) to determine whether imports of OCTG from Ukraine are being, or are likely to be, sold in the United States at less than fair value (LTFV).¹ On August 16, 2013, the U.S. International Trade Commission (ITC) notified Commerce of its affirmative preliminary injury determination in this case.² On February 14, 2014, Commerce preliminarily determined that OCTG is being, or is likely to be, sold in the United States at LTFV, as provided in section 733 of the Act. On this same date, Commerce also preliminarily determined that there is not a reasonable basis to believe or suspect that critical circumstances exist with respect to OCTG from Ukraine and postponed the final determination in this investigation until no later than July 10, 2014.³

¹ See Certain Oil Country Tubular Goods from India, the Republic of Korea, the Republic of the Philippines, Saudi Arabia, Taiwan, Thailand, the Republic of Turkey, Ukraine, and the Socialist Republic of Vietnam: Initiation of Antidumping Duty Investigations, 78 FR 45505 (July 29, 2013).

² See Certain Oil Country Tubular Goods from India, Korea, The Philippines, Saudi Arabia, Taiwan, Thailand, Turkey, Ukraine, and Vietnam: Determinations, Inv. Nos. 701-TA-499-500 and 731-TA-1215-1223 (Preliminary) USITC Pub. No. 4422, 78 FR 52213 (August 22, 2013).

³ See Certain Oil Country Tubular Goods from Ukraine: Preliminary Determination of Sales at Less Than Fair Value, Negative Preliminary Determination of Critical Circumstances, and Postponement of Final Determination, 79 FR 10482 (February 25, 2014).

Commerce and Interpipe and North American Interpipe (collectively, Interpipe) signed the Agreement on July 10, 2014, and the Agreement was published on July 18, 2014.⁴ The terms of the Agreement stipulated that the Agreement would terminate on July 10, 2017.

⁴ See Suspension of Antidumping Duty Investigation: Certain Oil Country Tubular Goods from Ukraine, 79 FR 41959 (July 18, 2014).

Pursuant to section 734(g) of the Act, the investigation was continued based upon requests by Interpipe and Maverick Tube Corporation; United States Steel Corporation; Boomerang Tube LLC; EnergeX, division of JMC Steel Group; Northwest Pipe Company; Tejas Tubular Products, Inc.; TMK IPSCO; Welded Tube USA, Inc.; Wheatland Tube Company; and Vallourec Star L.P. (collectively, petitioners). Both Commerce's final determination and the ITC's final injury determination were affirmative.⁵

⁵ See Certain Oil Country Tubular Goods from Ukraine: Final Determination of Sales at Less Than Fair Value and Final Negative Determination of Critical Circumstances, 79 FR 41969 (July 18, 2014) (Final Determination) and Certain Oil Country Tubular Goods from Ukraine: Amended Final Determination of Sales at Less Than Fair Value, 79 FR 52303 (September 3, 2014) (Amended Final Determination). See also Certain Oil Country Tubular Goods from India, Korea, The Philippines, Saudi Arabia, Taiwan, Thailand, Turkey, Ukraine, and Vietnam, Inv. Nos. 701-TA-499-500 and 731-TA-1215-1223 (Final) USITC Pub. No. 4489, 79 FR 53080 (September 5, 2014) (ITC Final Determination).

Following requests by Interpipe, on July 17, 2017, Commerce and Interpipe amended the Agreement to extend its term for one additional year, until July 10, 2018.⁶ On July 5, 2018, at the request of Interpipe, Commerce and Interpipe amended the Agreement to extend the Agreement for one additional year, until July 10, 2019.⁷

⁶ See Amendment to the Agreement Suspending the Antidumping Duty Investigation on Certain Oil Country Tubular Goods from Ukraine, 82 FR 32681 (July 17, 2017).

⁷ See Amendment to the Agreement Suspending the Antidumping Duty Investigation on Certain Oil Country Tubular Goods from Ukraine, 83 FR 31369 (July 5, 2018).

On December 7, 2018, Interpipe requested an extension of the Agreement for an additional five years, until July 10, 2024.⁸ On December 18, 2018, Commerce invited interested parties to comment on Interpipe's request.⁹ On February 19, 2019, U.S. petitioning companies Maverick Tube Corporation, United States Steel Corporation, Vallourec Star, L.P., TMK IPSCO, and Welded Tube USA Inc., submitted comments opposing Interpipe's request and asking Commerce to allow the Agreement to terminate as scheduled, and proceed to issue an AD order on July 10, 2019.¹⁰ Interpipe submitted additional comments in support of its request on the same day.¹¹

⁸ See Letter to Wilbur Ross, Secretary of Commerce, from Interpipe, “Antidumping Duty Suspension Agreement on Certain Oil Country Tubular Goods from Ukraine: Request to Extend the Suspension Agreement” (December 7, 2018) (Extension Request).

⁹ See Memorandum to the File, “Agreement Suspending the Antidumping Duty Investigation on Oil Country Tubular Goods from Ukraine: Request for Comment” (December 18, 2018).

¹⁰ See Letter to Wilbur Ross, Secretary of Commerce, from Maverick Tube Corporation, et al., “Comments in Opposition to Interpipe's Request to Further Extend for an Additional 5 Years the Agreement Suspending the Antidumping Investigation of Certain Oil Country Tubular Goods from Ukraine” (February 19, 2019).

¹¹ See Letter to Wilbur Ross, Secretary of Commerce, from Interpipe, “Antidumping Duty Suspension Agreement on Certain Oil Country Tubular Goods from Ukraine: Additional Letter in Support of Request to Extend Suspension Agreement” (February 19, 2019).

On June 4, 2019, Commerce initiated and the ITC instituted a five-year sunset review of the OCTG suspended investigation.¹²

¹² See Initiation of Five-Year (Sunset) Reviews, 84 FR 25741 (June 4, 2019).

Scope of the Order

See Appendix I for a complete description of the scope of the AD order.

Termination of Suspension Agreement

On July 10, 2019, Commerce notified Interpipe of its decision not to extend the Agreement as requested by Interpipe and that the Agreement would terminate pursuant to Section H of the Agreement, which states (in part):

This Agreement shall terminate five years after the effective date of this Agreement, on July 10, 2019. At that time, in the event the antidumping duty investigation with respect to OCTG from Ukraine is continued pursuant to section 734(g) of the Act and results in affirmative determinations, as referenced in sections 735(a)(1) and (b)(1) of the Act, by the Department and the International Trade Commission respectively, the Department shall issue an antidumping duty order and order the suspension of liquidation on entries of OCTG from Ukraine in accordance with section 735(c) of the Act.¹³

¹³ See Suspension of Antidumping Duty Investigation: Certain Oil Country Tubular Goods from Ukraine, 79 FR 41959 (July 18, 2014), amended in Amendment to the Agreement Suspending the Antidumping Duty Investigation on Certain Oil Country Tubular Goods from Ukraine, 82 FR 32681 (July 17, 2017), amended in Amendment to the Agreement Suspending the Antidumping Duty Investigation on Certain Oil Country Tubular Goods from Ukraine, 83 FR 31369 (July 5, 2018).

Therefore, pursuant to Section H of the Agreement, the Agreement terminates on July 10, 2019.

Rescission of Administrative Review

On September 10, 2018, Commerce initiated an administrative review of the Agreement for the period July 1, 2017 through June 30, 2018.¹⁴ Because the Agreement terminates effective July 10, 2019, there is no longer an agreement of which to conduct an administrative review. Therefore, Commerce is rescinding the administrative review of the Agreement effective on the date of termination of the Agreement, i.e., July 10, 2019.

¹⁴ See Initiation of Antidumping and Countervailing Duty Administrative Reviews, 83 FR 50077, 50086 (October 4, 2018).

Antidumping Duty Order

As noted above, the underlying investigation in this proceeding was continued pursuant to section 734(g) of the Act. Commerce made a final affirmative AD determination, and the ITC found material injury.¹⁵ Therefore, in light of the termination of the Agreement and the final affirmative determinations issued by Commerce and ITC, in accordance with section 735(c)(2) of the Act, Commerce is issuing an AD order and will instruct U.S. Customs and Border Protection (CBP) to suspend liquidation of entries of subject merchandise, entered, or withdrawn from warehouse, for consumption on or after July 10, 2019. These suspension-of-liquidation instructions will remain in effect until further notice.

¹⁵ See Final Determination, Amended Final Determination, and ITC Final Determination, respectively.

In accordance with section 736(a)(1) of the Act, Commerce is directing CBP to assess, upon further instruction by Commerce, antidumping duties equal to the amount by which the normal value of the merchandise exceeds the export price (or constructed export price) of the merchandise, for all entries of OCTG from Ukraine subject to the scope of this order in Appendix 1 below.

Commerce also shall instruct CBP to require a cash deposit for each entry equal to the AD estimated weighted-average margin rates found in Commerce's Amended Final Determination, as listed below. Accordingly, for entries of subject merchandise entered, or withdrawn from warehouse, for consumption on or after July 10, 2019, CBP will require, at the same time as importers would normally deposit estimated duties on the subject merchandise, a cash deposit equal to the estimated weighted-average dumping margins listed below. Therefore, effective July 10, 2019, CBP shall require a cash deposit equal to the cash deposit rates shown below. The all-others rate applies to all producers and exporters of subject merchandise not specifically listed. The ad valorem rates for this antidumping duty order are as follows:

Manufacturer/exporter | Estimated weighted-average margin (percent)
Interpipe Europe S.A.; Interpipe Ukraine LLC; PJSC Interpipe Niznedneprovsky Tube Rolling Plant (aka Interpipe NTRP); LLC Interpipe Niko Tube | 7.47
All Others | 7.47

Notification to Interested Parties

This notice constitutes the AD order with respect to OCTG from Ukraine pursuant to section 736(a) of the Act. Interested parties can find a list of AD orders currently in effect at https://www.trade.gov/enforcement/. This order is issued and published in accordance with section 736(a) of the Act and 19 CFR 351.211(b).

Dated: July 10, 2019.
Jeffrey I. Kessler,
Assistant Secretary for Enforcement and Compliance.

Appendix I: Scope of the Order

The merchandise subject to this Order is certain oil country tubular goods (OCTG) from Ukraine, which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the order also covers OCTG coupling stock.

Excluded from the scope of this order are: Casing or tubing containing 10.5 percent or more by weight of chromium; drill pipe; unattached couplings; and unattached thread protectors. The merchandise subject to this Order is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to this Order may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

The HTSUS subheadings above are provided for convenience and customs purposes only. The written description of the scope of the product coverage is dispositive.

[FR Doc. 2019-15073 Filed 7-15-19; 8:45 am]

BILLING CODE 3510-DS-P